ADVISORY COUNCIL ON HISTORIC PRESERVATION

Federal Register Notice

AGENCY: Advisory Council on Historic Preservation.

ACTION: Notice of meeting.

SUMMARY: Notice is hereby given that the Advisory Council on Historic Preservation (ACHP) will meet on Friday, February 20, 2009. The meeting will be held in the Congressional Members Room in the Thomas Jefferson Building of the Library of Congress, 10 First Street, SE., Washington, DC at 9 a.m. The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call To Order—9 a.m.

I. Chairman's Welcome

II. Preserve America and Chairman's Award Presentation

III. Native American Activities

A. Native American Advisory Group

B. Native American Program Report

IV. Report of the Expert Panel on the Structure of the Federal Preservation Program

V. Preserve America Program Implementation

A. Overview of Achievements since 2003

B. Preserve America Summit Implementation

C. Preserve America/Save America's Treasures Authorizing Legislation

VI. Transition Activities

VII. Historic Preservation and the Economic Stimulus Package

VIII. Preservation Initiatives Committee

A. Economic Benefits of Preservation Study

IX. Federal Agency Programs Committee

A. Section 3 Report to the President

B. Bureau of Land Management Nationwide Programmatic Agreement

C. Federal Communications Commission Section 106 E-Filing System

D. Section 106 Case Updates

X. Communications, Education, and Outreach Committee

A. Service Learning Initiative

XI. Chairman's Report

A. ACHP Alumni Foundation

B. ACHP FY 2009 Appropriationl FY 2010 Budget Estimates

XII. Executive Director's Report

A. Staff Changes and Recruitment

XIII. New Business

XIV. Adjourn

Note: The meetings of the ACHP are open to the public.

If you need special accommodations due to a disability, please contact the Advisory Council on Historic Preservation, 1100 Pennsylvania Avenue, NW., Room 803, Washington, DC, 202-606-8503, at least seven (7) days prior to the meeting.

For further information: Additional information concerning the meeting is available from the Executive Director, Advisory Council on Historic Preservation, 1100 Pennsylvania Avenue, NW., #803, Washington, DC 20004.

Dated: February 6, 2009.
John Fowler,
Executive Director.

[FR Doc. E9-3179 Filed 2-17-09; 8:45 am]

BILLING CODE 4310-K6-M